DEPARTMENT OF AGRICULTURE

Forest Service

Notice of Public Meeting, Davy Crockett National Forest Resource Advisory Committee

October 24, 2007.

SUMMARY: In accordance with the Secure Rural Schools and Community Self Determination Act of 2000 (Pub. L. 106-393) and the Federal Advisory Committee Act of 1972 (FACA), the U.S. Department of Agriculture, Forest Service, Davy Crockett National Forest Resource Advisory Committee (RAC) meeting will meet as indicated below.

DATES: The Davy Crockett National Forest RAC meeting will be held on November 29, 2007.

ADDRESSES: The Davy Crockett National Forest RAC meeting will be held at the Davy Crockett Ranger Station located on State Highway 7, approximately one-quarter mile West of FM 227 in Houston County, Texas. The meeting will begin at 4 p.m. and adjourn at approximately 6 p.m. A public comment period will be 5:45 p.m.

FOR FURTHER INFORMATION CONTACT: Brian Townsend, Designated Federal Officer, Davy Crockett National Forest, Route 1 Box 55 FS, Kennard, TX 75847: Telephone: 936-655-2299 or e-mail at: btownsend@fs.fed.us.

SUPPLEMENTARY INFORMATION: The Davy Crockett National Forest RAC proposes projects and funding to the Secretary of Agriculture under Section 203 of the Secure Rural Schools and Community Self Determination Act of 2000. The purpose of the November 29, 2007 meeting is to update the members on the following: Project status, legislation, and the Groveton Stewardship Project. These meetings are open to the public. The public may present written comments to the RAC. Each formal RAC meeting will also have time, as identified above, persons wishing to comment and time available, the time for individual oral comments may be limited.

Brian Townsend,
Designated Federal Officer, Davy Crockett National Forest RAC.

[FR Doc. 07-5398 Filed 10-30-07; 8:45 am]

BILLING CODE 3410-11-M